DEPARTMENT OF THE INTERIOR

National Park Service

[N6683; NPS-WASO-NAGPRA-NPS0041423; PPWOCRADN0-PCU00RP14.R50000]

Notice of Intended Repatriation: Turtle Bay Exploration Park, Redding, CA

AGENCY: National Park Service, Interior.

ACTION: Notice.

SUMMARY: In accordance with the Native American Graves Protection and Repatriation Act (NAGPRA), Turtle Bay Exploration Park (TBEP) intends to repatriate certain cultural items that meet the definition of objects of cultural patrimony and that have a cultural affiliation with the Indian Tribes or Native Hawaiian organizations in this notice.

DATES: Repatriation of the cultural items in this notice may occur on or after January 16, 2026.

ADDRESSES: Send additional, written requests for repatriation of the cultural items in this notice to Julia Cronin, Turtle Bay Exploration Park, 844 Sundial Bridge Drive, Redding, CA 96001, email jcronin@turtlebay.org.

SUPPLEMENTARY INFORMATION: This notice is published as part of the National Park Service's administrative responsibilities under NAGPRA. The determinations in this notice are the sole responsibility of Turtle Bay Exploration Park, and additional information on the determinations in this notice, including the results of consultation, can be found in the summary or related records. The National Park Service is not responsible for the determinations in this notice.

Abstract of Information Available

A total of 100 cultural items have been requested for repatriation. The 100 objects of cultural patrimony are 47 stone and mineral tools and fragments, 20 bone and antler tools and fragments (including bone fishing implements), 16 lots of animal remains including bones, five lots of stone net weights, four stone bowl fragments, three lots of vegetal remains, three baskets, one lot of bolas, and one steatite oil dish. These belongings have been identified as Wiyot in origin based on archaeological provenience or associated documentation. Most are from Tuluwat Island in Humboldt County, California. The Wiyot have lived on the island and lands surrounding Humboldt Bay since time immemorial.

The Redding Museum League raised funds for the Redding Museum and Art Center (RMAC), now Turtle Bay Exploration Park, to purchase a steatite oil dish and six bolas from the Alice Dunaway collection through Fred Casebeer in 1971. Dunaway, a renowned basket collector from Happy Camp, CA, also collected other items, most of which reflect her Karuk heritage. These items, however, are documented in museum records as Wiyot.

In 1972, the RMAC purchased a framed collection of bone fishing implements from Troy Crisp excavated from Gunther (now Tuluwat) Island in 1962. Crisp, a Texas-born collector, lived briefly in Oregon and Northern California. He acquired a large collection of Native American and Indigenous Mexican Belongings over his lifetime through hobby field collecting and trading with other collectors. He primarily added to his collection through his business operating heavy equipment to clear brush land. Given that he did not move to California until 1965, it is possible that the fishing implements were collected during a prior visit.

In 1974, RMAC purchased a basalt maul attributed to the Wiyot from Geddes Harper of Eureka, CA. It was accessioned the same year.

Under League President Mary Lou Lane, the Redding Museum League raised funds for the purchase of an open weave fish or sieve type basket of unpeeled willow and conifer root. It was accessioned in 1976. It is attributed to Wiyot, dated c.1930, and in excellent condition.

In 1977, James “Jim” Dotta donated a sizable collection of archaeological materials to RMAC. In addition, a steatite bowl fragment was donated in 1983 from his estate after his passing. Jim Dotta was a local instructor at Shasta Community College in Redding, CA, a professional archaeologist, and heavily involved in the Redding Museum and Art Center. He was also an avid collector of books, historical objects, artworks, and Indigenous Belongings.

His 1977 donation accounts for eighty-six (86) of the items in this Notice. They include stone and mineral tools and fragments, like scrapers, projectile points, and net weights, as well as bone and antler tools and fragments such as awls, wedges, and fishing barbs. The animal remains include fish scales and bones, bird beaks and bones, animal teeth, horns, bones, and a baculum. Vegetal remains include corn cobs, rinds, and squash stems. There are also steatite and sandstone stone bowl fragments.

According to museum records, these items were excavated by Dotta on Tuluwat Island. While they share a site number, there is no archaeological report on file at this museum. There is no indication these items are from a burial context. Mr. Dotta was generally careful in noting the presence or absence of burials in relation to artifacts.

In 1982, RMAC purchased two Wiyot baskets from the Clarke Museum in Eureka, CA which deaccessioned a portion of its Native American basketry to other nonprofit institutions in accordance with its bylaws. These include a twined willow spoon basket (c.1880) and a twined flour tray (c.1900) made of bear grass, pine root, and hazel shoots.

Turtle Bay Exploration Park does not treat Indigenous belongings with hazardous materials. However, the documentation does not reflect whether these items received treatment prior to the care of the Redding Museum and Art Center.

Determinations

Turtle Bay Exploration Park has determined that:

• The 100 objects of cultural patrimony described in this notice have ongoing historical, traditional, or cultural importance central to the Native American group, including any constituent sub-group (such as a band, clan, lineage, ceremonial society, or other subdivision), according to the Native American traditional knowledge of an Indian Tribe or Native Hawaiian organization.

• There is a reasonable connection between the cultural items described in this notice and the Wiyot Tribe, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after January 16, 2026. If competing requests for repatriation are received, Turtle Bay Exploration Park must determine the most appropriate requestor prior to repatriation. Requests for joint repatriation of the cultural items are considered a single request and not competing requests. Turtle Bay Exploration Park is responsible for sending a copy of this notice to the Indian Tribes and Native Hawaiian organizations identified in this notice and to any other consulting parties.

Authority: Native American Graves Protection and Repatriation Act, 25 U.S.C. 3004 and the implementing regulations, 43 CFR 10.9.

Dated: November 24, 2025.
Melanie O'Brien,
Manager, National NAGPRA Program.

[FR Doc. 2025-23035 Filed 12-16-25; 8:45 am]

BILLING CODE 4312-52-P